DEPARTMENT OF ENERGY

Federal Energy Regulatory Commission

[Docket No. CP03-22-000]

In the Matter of Southern Natural Gas Company and ANR Storage Company; Notice of Application

December 23, 2002.

Take notice that on December 10, 2002, Southern Natural Gas Company (Southern) P.O. Box 2563, Birmingham, Alabama 35202-2563, and ANR Storage Company (ANR), P. O. Box 2511, Houston, Texas 77252, filed an abbreviated joint application pursuant to section 7(b) of the Natural Gas Act, as amended, and sections 157.7 and 157.14 of the Commission's regulations for authorization to abandon the storage services, previously authorized in Docket No. CP79-416 (12 FERC “ 61,194), rendered under ANR's X-9 and X-10 Rate Schedules on behalf of Southern effective as of March 31, 2002. The application is on file with the Commission and open to public inspection.

ANR states that it has provided storage service on behalf of Southern pursuant to ANR's Rate Schedules X-9 and X-10 and pursuant to the terms of storage service agreements (the “Agreements”) dated January 31, 1979, and February 1, 1979, respectively. This service involves ANR making storage available to Southern pursuant to storage agreements whereby ANR will store during the summer periods up to 11,503,000 Mcf of natural gas and during the winter periods will make equivalent volumes of gas available for redelivery to Southern. The January 31 agreement provided for a 50-day storage service of up to 5,881,900 Mcf of gas while the February 1 agreement provided for a 100-day storage service of up to 5,620,800 Mcf of gas. The Agreements provided that Southern could elect to defer redelivery, from one contract year to the next, of all or any part of the volumes stored. Since Southern requested termination of the service under ANR's X-9 and X-10 Rates Schedules, ANR has requested that the abandonment of Rate Schedules X-9 and X-10 be effective March 31, 2003.

Any person desiring to be heard or to make any protest with reference to said application should on or before December 31, 2002, file with the Commission, 888 First Street NE., Washington, DC 20426, a motion to intervene or protest in accordance with the requirements of the Commission's rules of practice and procedure, 18 CFR 385.211 or 385.214, and the regulations under the Natural Gas Act, 18 CFR 157.10. All protests filed with the Commission will be considered by it in determining the appropriate action to be taken but will not serve to make the protestants parties to the proceedings. Any person wishing to become a party to a proceeding or to participate as a party in any hearing therein must file a motion to intervene in accordance with the Commission's rules.

Take further notice that, pursuant to the authority contained in and subject to the jurisdiction conferred upon the Commission by sections 7 and 15 of the Natural Gas Act and the Commission's rules of practice and procedure, a hearing will be held without further notice before the Commission or its designee on this application if no motion to intervene is filed within the time required herein or if the Commission on its own review of the matter finds that a grant of the subject authorization is required by the public convenience and necessity. If a motion for leave to intervene is timely filed or if the Commission on its own motion believes that formal hearing is required, further notice of such hearing will be duly given.

Under the procedure herein provided for, unless otherwise advised, it will be unnecessary for Southern or ANR to appear or be represented at the hearing.

Linwood A. Watson, Jr.,
Deputy Secretary.

[FR Doc. 02-32869 Filed 12-27-02; 8:45 am]

BILLING CODE 6717-01-P